ENVIRONMENTAL PROTECTION AGENCY

[EPA-HQ-OAR-2018-0638; FRL-11710-01-OMS]

Agency Information Collection Activities; Submission to the Office of Management and Budget for Review and Approval; Comment Request; Waiver From Tier 4 Emission Standards for Marine Diesel Engines (Renewal)

AGENCY: Environmental Protection Agency (EPA).

ACTION: Notice.

SUMMARY: The Environmental Protection Agency (EPA) has submitted an information collection request (ICR), Waiver from Tier 4 Emission Standards for Marine Diesel Engines (EPA ICR Number 2602.03, OMB Control Number 2060-0726) to the Office of Management and Budget (OMB) for review and approval in accordance with the Paperwork Reduction Act. This is a proposed extension of the ICR, which is currently approved through January 31, 2024. Public comments were previously requested via the Federal Register on June 7, 2023 during a 60-day comment period. This notice allows for an additional 30 days for public comments.

DATES: Comments must be submitted on or before April 1, 2024.

ADDRESSES: Submit your comments, referencing Docket ID Number EPA-HQ-OAR-2018-0638 to EPA online using www.regulations.gov (our preferred method), by email to a-and-r-Docket@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Maria Lennox, Assessment and Standards Division, Office of Transportation and Air Quality, Environmental Protection Agency, 2000 Traverwood Drive, Ann Arbor, MI 48105; telephone number: (734) 214-4025; email address: lennox.maria@epa.gov.

SUPPLEMENTARY INFORMATION: This is a proposed extension of the ICR, which is currently approved through January 31, 2024. An agency may not conduct or sponsor and a person is not required to respond to a collection of information unless it displays a currently valid OMB control number.

Public comments were previously requested via the Federal Register on June 7, 2023 during a 60-day comment period (88 FR 37241). This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA adopted the Tier 4 marine diesel engine standards in June 2008, under the authority of the Clean Air Act (73 FR 37096). The Tier 4 standards were phased in, with an effective date beginning in 2016 through 2018 for most engines. In August 2020, EPA amended those regulations in response to industry concerns about the availability of suitable Tier 4 certified engines for installation in certain kinds of high-speed vessels. The amendments provided focused relief for qualifying engines and vessels in two phases, depending on engine and vessel size. Builders of qualifying vessels were required to submit to EPA information describing their need for regulatory relief and demonstrating that their vessels met the size and power conditions.

• Phase One was available through 2021 and was limited to propulsion engines with maximum power output up to 1,400 kW and power density of at least 27.0 kW per liter displacement. Additionally, the relief is limited to vessels up to 65 feet waterline length with total nameplate propulsion power at or below 2,800 kW. This includes vessels such as lobster fishing boats, pilot boats, and some research boats.

• Phase Two is available through 2023 and is limited to vessels with a single propulsion engine with maximum power output up to 1,000 kW and power density of at least 35.0 kW per liter displacement, where the vessel is made with a nonmetal hull and has a maximum length of 50 feet. These vessels are expected to be primarily lobster or other fishing boats. EPA also adopted a waiver provision that can be applied for, if necessary, beginning in 2024, if suitable engines continue to be unavailable; this waiver requires the vessel builder to submit an application which would be reviewed by EPA before issuing the waiver.

This information collection request renewal covers the reporting burden associated with applying for the waiver for vessels meeting the criteria for Phase 2 relief. EPA will use the information requested under this collection to determine if a boat builder qualifies for a regulatory waiver from the marine diesel Tier 4 standards, allowing that manufacturer to install Tier 3 engines on a qualifying vessel. It will be collected electronically and used to evaluate whether companies qualify for using engines meeting less stringent standards. Manufacturers may assert a claim of confidentiality in accordance with the Freedom of Information Act (FOIA) and EPA regulations at 40 CFR part 2. We will release this information only as permitted or required under the FOIA and EPA regulations at 40 CFR part 2 and part 1068. Non-confidential portions of the information submitted to CD are available to trade associations, importers, environmental groups, members of the public, and state and local government organizations.

Form Numbers: None.

Respondents/affected entities: Manufacturers that sell or import into the United States (USA) new marine diesel engines and manufacturers that produce for sale in the USA certain high-speed marine vessels.

Respondent's obligation to respond: Required to obtain or retain a benefit.

Estimated number of respondents: 20 (total).

Frequency of response: On occasion: as necessary to obtain Tier 4 waivers for a specific vessel or vessels.

Total estimated burden: 380 hours (per year). Burden is defined at 5 CFR 1320.03(b).

Total estimated cost: $39,707 (per year), which includes $0 annualized capital or operation & maintenance costs.

Changes in the Estimates: There is an increase of 380 hours in the total estimated respondent burden compared with the ICR currently approved by OMB. This increase is due to the end of the automatic delay for application of the Tier 4 standards to affected boats and the need to request a waiver from EPA to allow use of a Tier 3 engine if a suitable Tier 4 engine continues to be unavailable.

Courtney Kerwin,
Director, Information Engagement Division.

[FR Doc. 2024-01808 Filed 1-29-24; 8:45 am]

BILLING CODE 6560-50-P